NATIONAL ARCHIVES AND RECORDS ADMINISTRATION

[NARA-2015-039]

Office of Presidential Libraries; Disposal of Presidential Records

AGENCY: National Archives and Records Administration (NARA).

ACTION: Presidential Records Act notice of proposed disposal of Reagan and George H.W. Bush administration disaster recovery backup tapes; final agency action.

SUMMARY: NARA is issuing final notice that it intends to dispose of several collections of disaster recovery backup tapes from the Ronald Reagan (Reagan) and George H.W. Bush (GHW Bush) administrations under the provisions of 44 U.S.C. 2203(g)(3). NARA published notice in the Federal Register (February 6, 2015 (80 FR 6770)), proposing to dispose of these backup tapes. That initial notice contains a detailed description of the tapes, the reasons for destruction, and a synopsis of the completed restoration projects.

NARA has determined that the backup tapes do not warrant further retention. All required backup restoration projects have taken place, NARA is preserving and permanently retaining the restored records, and we have identified no further need to preserve or maintain the backup tapes.

This notice constitutes a final agency action, as described in 44 U.S.C. 2203(g)(3), and NARA will dispose of the described backup tapes on or after the date below.

DATES: NARA will dispose of the backup tapes on or after August 24, 2015.

FOR FURTHER INFORMATION CONTACT: Director of Presidential Libraries Susan K. Donius, by mail at National Archives and Records Administration, Suite 2200; 8601 Adelphi Road; College Park, Maryland 20740-6001, by telephone at (301) 837-3250, by fax at (301) 837-3199, or by email at elizabeth.fidler@nara.gov.

SUPPLEMENTARY INFORMATION: Public comments: NARA published a “Presidential Records Act notice of proposed disposal of Reagan and George H.W. Bush administration disaster recovery backup tapes; request for public comment” on February 6, 2015, in the Federal Register (80 FR 6770) for a 45-day comment period. NARA received one written comment, in which a concerned citizen suggested that NARA should retain the “documentation” so that it can be made available to the public.

NARA has considered the comment. As described in the notice of proposed disposal, NARA is retaining the recovered records from the backup tapes. All the Presidential and Federal records that were on the tapes have been restored, and NARA is permanently retaining those restored records. This is in line with the commenter's suggestion and goal, so NARA believes no further action is necessary in response to the comment and is proceeding with destruction of the backup tapes as outlined in the proposal notice.

NARA action

NARA will dispose of 3,071 original disaster recovery backup tapes created during the Reagan and GHW Bush administrations, and subsequent preservation copies of those media (maintained for the Professional/Office Vision software (PROFS) system, the Sperry/VAX All-in-One system, and for systems operated by the White House Situation Support Staff (WHSSS) and the White House Situation Room (WHSR)), on or after August 24, 2015, because NARA has determined that they lack sufficient administrative, historical, informational, or evidentiary value.

Dated: June 16, 2015.
David S. Ferriero,
Archivist of the United States.

[FR Doc. 2015-15333 Filed 6-22-15; 8:45 am]

BILLING CODE 7515-01-P